DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of January 26 through January 30, 2009.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-64,691; Bauhaus USA, Inc., La-Z-Boy, Inc., Sherman, MS: November 15, 2008

TA-W-64,731; Chrysler, LLC, Mount Elliott Tool and Die, Detroit, MI: December 16, 2007

The following certifications have been issued. The requirements of Section 222(a)(2)(B) (shift in production) of the Trade Act have been met.

None

The following certifications have been issued. The requirements of Section 222(b) (supplier to a firm whose workers are certified eligible to apply for TAA) of the Trade Act have been met.

None

The following certifications have been issued. The requirements of Section 222(b) (downstream producer for a firm whose workers are certified eligible to apply for TAA based on increased imports from or a shift in production to Mexico or Canada) of the Trade Act have been met.

None

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-64,502; Ashley Furniture Industries, Upholstery Division, Ecru, MS: November 12, 2007

TA-W-64,634; Vaughan-Bassett Furniture Company, Elkin, NC: December 9, 2007

TA-W-64,649; Brown Jordan Company, El Monte, CA: December 3, 2007

TA-W-64,752; Pearson Company, HDM Furniture Industries, High Point, NC: December 19, 2007

TA-W-64,762; Syracuse Gauge Company, A Division of Tomkins Industries and Automotive, Syracuse, NY: December 22, 2007

TA-W-64,776; Maitland Smith Furniture Industries, HDM Furniture Industries, High Point, NC: December 23, 2007

TA-W-64,862; Cintas Corporation, Mason Cutting Center, Mason, OH: January 9, 2008

TA-W-64,867; Sherrill Furniture, Hickory White Furniture Division, Hickory, NC: January 12, 2008

TA-W-64,895; II VI, Incorporated, Infrared Optics Saxonburg Division, Saxonburg, PA: January 9, 2008

TA-W-64,969; The Vollrath Company, LLC, Windway Capital Corporation, Sheboygan, WI: January 21, 2008

TA-W-64,738; Flextronics, Flextronics International, LTD, Vista Point Technologies Division, Westwood, MA: December 8, 2007

TA-W-64,330; Triangle Suspension Systems, Inc., Marmon Highway Technologies, DuBois, PA: October 23, 2007

TA-W-64,449; Whirlpool Corporation, Jackson Dishwashing Products Division, Jackson, TN: November 14, 2007

TA-W-64,585; International Paper, Louisiana Mill Division, Bastrop, LA: December 1, 2007

TA-W-64,590; Bulova Technologies, LLC, Lancaster, PA: December 3, 2007

TA-W-64,616; Steelscape, Bluescope Steel, Kalama, WA: December 3, 2007

TA-W-64,706; Timber Products Company, White City Plywood Division, White City, OR: December 5, 2007

TA-W-64,980; National Wood Products of Maine, Inc., Oxford, ME: January 22, 2008

TA-W-64,724; Pac Sci Motion Control, Inc., Low Inertia Motors, Danaher Motion Division, Rockford, IL: December 17, 2007

TA-W-64,729; Forster Textile Mills, Inc., Maxton, NC: December 17, 2007

TA-W-64,848; Ozark Mountain Apparel, Monett, MO: January 8, 2008

TA-W-64,849; Ozark Mountain Apparel, Purdy, MO: January 8, 2008

The following certifications have been issued. The requirements of Section 222(a)(2)(B) (shift in production) and Section 246(a)(3)(A)(ii) of the Trade Act have been met.

TA-W-64,747; Fasco Motors, A Division of RBC Horizon, Eldon, MO: December 17, 2007

TA-W-64,763; Andrew, LLC, Connector and Cable Assembly Departments, Joliet, IL: December 22, 2007

TA-W-64,780; Bayer Clothing Group, Inc., Clearfield, PA: December 24, 2007

TA- W-64,784; Kenworth Truck Company, Paccar, Inc., Cab Build, Trim, Paint, Material Handling, Quality Assurance, Renton, WA: December 18, 2007

TA-W-64,789; Bemis Manufacturing Company, Kelch Division, Menomonee Falls, WI: December 29, 2007

TA-W-64,804; HR Solutions, LLC, Affiliated Computer Services, Norcross, GA: December 30, 2007

TA-W-64,814; PPM Technologies, Inc., Newberg, OR: December 30, 2007

TA-W-64,833; Carrier Corporation, RLCS Division, Tyler, TX: January 7, 2008

TA-W-64,834; RBC Manufacturing Corporation, Regal Beloit Corporation, West Plains, MO: January 5, 2008

TA-W-64,853; Ethan Allen Operations, Inc., Eldred, PA: January 9, 2008

TA-W-64,861; U.S. Marine, Components Wire Shop Division, Arlington, WA: January 8, 2008

TA-W-64,865; Star Building Systems, NCI Group, Inc., Lockeford, CA: January 9, 2008

TA-W-64,892; Superior Industries International, Inc., Corporate Division, Van Nuys, CA: January 13, 2008

TA-W-64,903; Foamex International, Inc., Santa Teresa, NM: January 9, 2008

TA-W-64,910; Avery Dennison Corporation, Information and Brand Management Systems Division, Greensboro, NC: January 14, 2008

TA-W-64,917; Trans-Tech, Inc., Skyworks Solution, Inc., Adamstown, MD: January 6, 2008

TA-W-65,019; Delphi Corporation, Corporate Headquarters, Troy, MI: January 27, 2008

TA-W-64,753; The Michaels Furniture Company, A Division of Restoration Hardware, Sacramento, CA: December 19, 2007

TA-W-64,767; Garrity Industries, Inc., Ashaway, RI: December 19, 2007

TA-W-64,768; HDM Henredon Morganton Operations, HDM Furniture Industries, Morganton, NC: December 22, 2007

TA-W-64,794; Standard Textiles, Thomaston, GA: December 30, 2007

TA-W-64,836; Caps Group Acquisition, LLC, Black DOT Group, Winter Park, FL: January 7, 2008

TA-W-64,907; Domino Lasers, Inc., Domino Printing Sciences, Anaheim, CA: January 14, 2008

The following certifications have been issued. The requirements of Section 222(b) (supplier to a firm whose workers are certified eligible to apply for TAA) and Section 246(a)(3)(A)(ii) of the Trade Act have been met.

TA-W-64,136; Magna Powertrain, Inc., Sterling Heights, MI: September 8, 2007

TA-W-64,376; Johnson Controls, Inc., Automotive Experience Division, Suwanee, GA: November 5, 2007

TA-W-64,509; Intertec Systems, LLC, Bardstown, KY: November 10, 2007

TA-W-64,680; Alex Products, Inc., Paulding, OH: December 12, 2007

TA-W-64,764; Intalco Aluminum Corporation, Global Primary Products, U.S. Division, Alcoa, Inc., Ferndale, WA: December 15, 2007

TA-W-64,824; IACNA, Lebanon, VA: December 29, 2008

TA-W-64,863; TRW Automotive, Electronic Division, Auburn, NY: January 8, 2008

TA-W-64,899; Contact Technologies, Inc., St. Marys, PA: January 13, 2008

The following certifications have been issued. The requirements of Section 222(b) (downstream producer for a firm whose workers are certified eligible to apply for TAA based on increased imports from or a shift in production to Mexico or Canada) and Section 246(a)(3)(A)(ii) of the Trade Act have been met.

None

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-64,691; Bauhaus USA, Inc., La-Z-Boy, Inc., Sherman, MS

TA-W-64,731; Chrysler, LLC, Mount Elliott Tool and Die, Detroit, MI

The Department has determined that criterion (2) of Section 246 has not been met. Workers at the firm possess skills that are easily transferable.

None

The Department has determined that criterion (3) of Section 246 has not been met. Competition conditions within the workers' industry are not adverse.

None

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-64,712; Claymore Electronics, Lawrenceville, GA

TA-W-64,724A; Pac Sci Motion Control, Inc., Pac Sci Motor 3, Danaher Motion Division, Rockford, IL

TA-W-64,819; Teck-Washington, Inc., Pend Oreille Mine, Teck-American, Inc., Metaline Falls, WA

The investigation revealed that criteria (a)(2)(A)(I.B.) (Sales or production, or both, did not decline) and (a)(2)(B)(II.B.) (shift in production to a foreign country) have not been met.

TA-W-64,769; True Temper Sports, Amory, MS

TA-W-64,874; Greenwell Chisholm Printing, Inc., Owensboro, KY

The investigation revealed that criteria (a)(2)(A)(I.C.) (increased imports) and (a)(2)(B)(II.B.) (shift in production to a foreign country) have not been met.

TA-W-64,281; International Paper, Container The Americas Division, Warren, MI

TA-W-64,624; Shaw Industries Group, Fibers Division, Anderson, SC

TA-W-64,630; Dexter Axle, Tomkins Industries, North Manchester, IN

TA-W-64,671; Ermico Enterprises, Inc., San Francisco, CA

TA-W-64,672; Alcan Packaging, Glass Tubing—Syracuse Division, Syracuse, NE

TA-W-64,709; SAFAS Corporation, GCP Division, New Castle, PA

TA-W-64,796; Tracy Evans Ltd, New York, NY

TA-W-64,431; Alyeska Pipeline Service Company, Anchorage, AK

The workers' firm does not produce an article as required for certification under Section 222 of the Trade Act of 1974.

TA-W-64,937; Kellwood Company, Rutherford, TN

TA-W-64,788; Regal Manufacturing Co., Inc., Hickory, NC

TA-W-64,850; NCO Financial Systems, Horsham, PA

The investigation revealed that criteria of Section 222(b)(2) has not been met. The workers' firm (or subdivision) is not a supplier to or a downstream producer for a firm whose workers were certified eligible to apply for TAA.

None

I hereby certify that the aforementioned determinations were issued during the period of January 26 through January 30, 2009. Copies of these determinations are available for inspection in Room N-5428, U.S. Department of Labor, 200 Constitution Avenue, NW., Washington, DC 20210 during normal business hours or will be mailed to persons who write to the above address.

Dated: February 12, 2009.
Linda G. Poole,
Certifying Officer, Division of Trade Adjustment Assistance.

[FR Doc. E9-3725 Filed 2-20-09; 8:45 am]

BILLING CODE 4510-FN-P